DEPARTMENT OF TRANSPORTATION

Pipeline and Hazardous Materials Safety Administration

49 CFR Part 192

[Docket No. PHMSA-2005-23447]

RIN 2137-AE25

Pipeline Safety: Standards for Increasing the Maximum Allowable Operating Pressure for Gas Transmission Pipelines

AGENCY: Pipeline and Hazardous Materials Safety Administration (PHMSA), Department of Transportation (DOT)

ACTION: Stay of final rule.

SUMMARY: This Notice stays the effective date of a final rule published October 17, 2008 (73 FR 62148). In accordance with the Congressional Review Act, the final rule will be effective on December 22, 2008, 60 days after the final rule was transmitted to Congress .

DATES: Effective December 1, 2008 §§ 192.112, 192.328, 192.611(a)(1); 192.611(a)(3)(i), (ii) and (iii); 192.619(a) and (d); and 192.620 are stayed until December 22, 2008.

FOR FURTHER INFORMATION CONTACT: Alan Mayberry by phone at (202) 366-5124, or by e-mail at alan.mayberry@dot.gov.

SUPPLEMENTARY INFORMATION:

I. Supplementary Background

On October 17, 2008 PHMSA issued a final rule under Docket No. PHMSA-2005-23447 amending the Pipeline Safety Regulations (PSR; 49 CFR parts 190-199) to increase the regulatory maximum allowable operating pressure (MAOP) for certain gas transmission pipelines. The October 17, 2008 Federal Resister notice announced that the final rule would be effective November 17, 2008, thirty days after its publication. Because the final rule is a major rule within the meaning of the Congressional Review Act, however, its effective date must be delayed until 60 days after publication in the Federal Register or transmission to Congress, whichever is later. The final rule was transmitted to Congress on October 22, 2008. Accordingly, we are staying its effective date until December 22, 2008.

Issued in Washington, DC, on November 24, 2008 under authority delegated in 49 CFR part 1.
Carl T. Johnson,
Administrator.

[FR Doc. E8-28435 Filed 11-28-08; 8:45 am]

BILLING CODE 4910-60-P